DEPARTMENT OF AGRICULTURE

Animal and Plant Health Inspection Service

[Docket No. APHIS-2019-0049]

Import Requirements for the Importation of Fresh Blueberries From Chile Into the United States

AGENCY: Animal and Plant Health Inspection Service, USDA.

ACTION: Notice.

SUMMARY: We are advising the public that we have prepared a commodity import evaluation document (CIED) relative to the importation into the United States of blueberries from Chile. Currently, blueberries from Chile imported into the United States from an area in which European grapevine moth is known to exist must be fumigated with methyl bromide. Based on the findings of the CIED, we are proposing to also allow the importation of such blueberries under the provisions of a systems approach. We are making the CIED available to the public for review and comment.

DATES: We will consider all comments that we receive on or before June 1, 2020.

ADDRESSES: You may submit comments by either of the following methods:

• Federal eRulemaking Portal: Go to http://www.regulations.gov/#!docketDetail;D=APHIS-2019-0049.

• Postal Mail/Commercial Delivery: Send your comment to Docket No. APHIS-2019-0049, Regulatory Analysis and Development, PPD, APHIS, Station 3A-03.8, 4700 River Road Unit 118, Riverdale, MD 20737-1238.

Supporting documents and any comments we receive on this docket may be viewed at http://www.regulations.gov/#!docketDetail;D=APHIS-2019-0049 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Tony Roman, Senior Regulatory Policy Specialist, RCC, IRM, PHP, PPQ, APHIS, 4700 River Road Unit 133, Riverdale, MD 20737-1236; (301) 851-2242.

SUPPLEMENTARY INFORMATION:

Background

Under the regulations in “Subpart L-Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides the requirements for authorizing the importation of fruits and vegetables into the United States, as well as revising existing requirements for the importation of fruits and vegetables. Paragraph (c) of that section provides that the name and origin of all fruits and vegetables authorized importation into the United States, as well as the requirements for their importation, are listed on the internet in APHIS' Fruits and Vegetables Import Requirements database, or FAVIR (https://epermits.aphis.usda.gov/manual). It also provides that, if the Administrator of APHIS determines that any of the phytosanitary measures required for the importation of a particular fruit or vegetable are no longer necessary to reasonably mitigate the plant pest risk posed by the fruit or vegetable, APHIS will publish a notice in the Federal Register making its pest risk documentation and determination available for public comment.

Currently, blueberries from Chile are listed in FAVIR as a fruit authorized importation into the United States. Blueberries from a region of Chile in which European grapevine moth (Lobesia botrana, EGVM) is known to exist (Regions VI, VII, VIII, or XVI) must be fumigated with methyl bromide.

The national plant protection organization (NPPO) of Chile stated that areas of low pest prevalence for EGVM exist in Regions VIII and XVI of Chile, and asked that we evaluate whether blueberries from these two regions could be authorized importation into the United States under a systems approach in lieu of fumigation with methyl bromide. In response to this request, we have prepared a commodity import evaluation document (CIED). The CIED determined that a systems approach consisting of the following measures reasonably mitigates the plant pest risk associated with blueberries from Regions VIII and XVI:

• The NPPO of Chile would have to enter into an operational workplan with APHIS that details the activities and responsibilities that the NPPO would carry out in order to meet the requirements of the systems approach. APHIS would have to approve the workplan prior to implementation of the systems approach.

• Places of production and packinghouses would have to be registered with and approved by the NPPO of Chile. Additionally, packinghouses would have to be pest exclusionary.

• If the NPPO of Chile determines that a registered place of production or packinghouse is not complying with the provisions of the systems approach, no blueberries from the place of production or packinghouse would be eligible for export into the United States until APHIS and the NPPO conduct an investigation and appropriate remedial actions have been implemented.

• The NPPO of Chile would have to demonstrate continued low pest prevalence for EGVM in Regions VIII and XVI through a national trapping program for EGVM. Trapping density and servicing, as well as thresholds for low pest prevalence, would be detailed in the operational workplan.

• If the place of production is within an area of Region VIII or XVI that is designated by the NPPO of Chile as a regulated area for EGVM, the place of production would have to have a field inspection by the NPPO within 2 weeks prior to harvest with no finds of immature EGVM based on a biometric sample of plants. Places of production in control areas for EGVM would not be authorized to export blueberries to the United States under the terms of the systems approach and blueberries from such areas would have to be fumigated with methyl bromide in order to be exported to the United States.

• Packed blueberries would have to be inspected by the NPPO of Chile prior to export under the auspices of APHIS' preclearance program within Chile.

• Each shipment would have to be accompanied by a phytosanitary certificate issued by the NPPO with an additional declaration that the blueberries were produced in an area of low pest prevalence for EGVM.

• Each shipment would be subject to inspection for quarantine pests at the port of entry into the United States.

• If immature stages of EGVM are detected during field inspections or packinghouse inspections, or any life stage of EGVM is detected at a port of entry into the United States, the consignment could not be imported into the United States and the place of production would be suspended from the systems approach export program until reinstated. Blueberries from that place of production would have to be fumigated with methyl bromide in order to be exported to the United States until such reinstatement.

Therefore, in accordance with § 319.56-4(c)(3), we are announcing the availability of our CIED for public review and comment. This document, as well as a description of the economic considerations associated with the proposed systems approach, may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding whether to revise the requirements for the importation of blueberries from Chile in a subsequent notice. If the overall conclusions of our analysis and the Administrator's determination of risk remain unchanged following our consideration of the comments, then we will revise the requirements for the importation of blueberries from Chile as described in this notice.

Authority: 7 U.S.C. 1633, 7701-7772, and 7781-7786; 21 U.S.C. 136 and 136a; 7 CFR 2.22, 2.80, and 371.3.

Done in Washington, DC, this 26th day of March 2020.
Mark Davidson,
Acting Administrator, Animal and Plant Health Inspection Service.

[FR Doc. 2020-06696 Filed 3-30-20; 8:45 am]

BILLING CODE 3410-34-P